DEPARTMENT OF THE INTERIOR

Fish and Wildlife Service

Final Comprehensive Conservation Plan and Finding of No Significant Impact for Marin Islands National Wildlife Refuge, Marin County, CA

AGENCY: Fish and Wildlife Service, Department of the Interior.

ACTION: Notice of availability.

SUMMARY: The U.S. Fish and Wildlife Service (Service) announces that the Marin Islands National Wildlife Refuge (Refuge) Final Comprehensive Conservation Plan (CCP) and Finding of No Significant Impact (FONSI) are available for distribution. The CCP, prepared pursuant to the National Wildlife Refuge System Administration Act as amended, and in accordance with the National Environmental Policy Act of 1969, describes how the Service will manage the Refuge for the next 15 years. The compatibility determinations for Research and Monitoring; Wildlife Observation and Photography; Environmental Education and Interpretive Staff-led Tours; and Sport Fishing are also included in the CCP.

DATES: The Final CCP and Finding of No Significant Impact (FONSI) are available now. The FONSI was signed on September 26, 2006. Implementation of the CCP may begin immediately.

ADDRESSES: Copies of the Final CCP and FONSI may be obtained by writing to the San Francisco Bay NWR Complex, Attn: Winnie Chan, 9500 Thornton Avenue, Newark, California, 94560, or via e-mail at sfbaynwrc@fws.gov.

Hard copies of the CCP/EA are also available at the following locations:

San Francisco Bay National Wildlife Refuge Complex, 1 Marshlands Road, Newark, CA 94536

San Pablo Bay National Wildlife Refuge, 7715 Lakeville Highway, Petaluma, CA 94954

Marin County Civic Center Library, 3501 Civic Center Drive #427, San Rafael, CA 94903

San Rafael Public Library, 1100 E Street, San Rafael, CA 94901

FOR FURTHER INFORMATION CONTACT: Christy Smith, Refuge Manager, (707) 769-4200, or Winnie Chan, Refuge Planner, (510) 792-0222.

SUPPLEMENTARY INFORMATION: The National Wildlife System Administration Act of 1966, as amended by the National Wildlife Refuge Improvement Act of 1997 (16 U.S.C. 668dd-668ee et seq.) requires the Service to develop a CCP for each National Wildlife Refuge. A CCP is also prepared in accordance with the National Environmental Policy Act of 1969 (42 U.S.C. 4321-4370d). The purpose in developing a CCP is to provide refuge managers with a 15-year strategy for achieving refuge purposes and contributing toward the mission of the National Wildlife Refuge System, consistent with sound principles of fish and wildlife management, conservation, legal mandates, and Service policies. In addition to outlining broad management direction on conserving wildlife and their habitats, the CCP identifies wildlife-dependent recreational opportunities available to the public, including opportunities for hunting, fishing, wildlife observation and photography, and environmental education and interpretation. The National Wildlife Refuge System Administration Act of 1966, as amended by the National Wildlife Refuge System Improvement Act of 1997, requires the Service to review and update these CCPs at least every 15 years. Revisions to the CCP will be prepared in accordance with the National Environmental Policy Act of 1969.

Background

The Refuge is located off the shoreline of the City of San Rafael, Marin County, in San Pablo Bay. The 339-acre Refuge of tidelands and 2 islands was established in 1992 “for the development, advancement, management, conservation, and protection of fish and wildlife resources, and for the benefit of the United States Fish and Wildlife Service, in performing its activities and services.” The various parcels of land within the Refuge are under the ownership of the California Department of Fish and Game, California State Lands Commission, or the Fish and Wildlife Service. The California Department of Fish and Game owned lands are designated as a State Ecological Reserve. These lands and the Service-owned lands are designated and administered as the Marin Islands National Wildlife Refuge. The Service provides day-to-day management of the entire Marin Islands Refuge and State Ecological Reserve under the National Wildlife Refuge System Administration Act, as amended, and pursuant to a memorandum of understanding with other landowning agencies. The Refuge “protects an important egret and heron colony on West Marin Island and seeks to increase colonial nesting bird use on East Marin Islands,” as described in a 1992 Environmental Assessment Proposing the Marin Islands National Wildlife Refuge.

The Draft CCP and Environmental Assessment (EA) was available for a 30-day public review and comment period, which was announced via several methods, including press releases, updates to constituents, and a Federal Register notice on July 21, 2006 (71 FR 41463). The Draft CCP/EA identified and evaluated three alternatives for managing the Refuge for the next 15 years. Alternative A was the no-action alternative, which described current Refuge management activities. Under Alternative B, management would have focused on expanding habitat restoration and continued to prohibit public access. Under Alternative C (the preferred plan), the Refuge would expand habitat restoration, provide public use on the Refuge, and conduct environmental education off the Refuge.

The Service received 2 comment letters on the Draft CCP and EA during the comment period. The comments received were incorporated into the CCP, when possible, and are responded to in an appendix to the CCP. In the FONSI, Alternative C was selected for implementation and is the basis for the Final CCP. The FONSI documents the decision of the Service and is based on the information and analysis contained in the EA.

Under the selected alternative, the Service will restore 75 percent of East Marin Island to coastal scrub and oak woodland plant communities to enhance nesting habitat for herons, egrets and other migratory birds. The Service will continue to maintain 95 percent of the existing native coastal scrub and oak woodland plant communities on West Marin Island, which support heron and egret colonies. Other habitat management activities include developing a needs assessment for management of sub-tidal areas of the Refuge. The Service will also study the effects of raven predation on the heron and egret population on the Refuge. While the Refuge's islands will continue to be closed to the public, some public use and environmental education would be provided. Guided tours would be established on East Marin Island to provide wildlife observation, environmental education, and cultural resource interpretation opportunities. Fishing will continue to be permitted in the Refuge's waters. Off-refuge environmental education opportunities include school and community presentations. Cultural resources on the Refuge will be assessed and preserved according to regulatory requirements. Full implementation of the selected plan will be subject to available funding and staffing.

The selected alternative best meets the purposes of the Refuge, the Fish and Wildlife Act of 1956, the Migratory Bird Conservation Act, and the goals of the National Wildlife Refuge System.

Toni M. Deery,
Acting Manager, California/Nevada Operations, Sacramento, California.

[FR Doc. E7-8948 Filed 5-9-07; 8:45 am]

BILLING CODE 4310-55-P